COMMISSION ON CIVIL RIGHTS

Agenda and Notice of Public Meeting of the Montana Advisory Committee

Notice is hereby given, pursuant to the provisions of the rules and regulations of the U.S. Commission on Civil Rights, that a meeting of the Montana State Advisory Committee will convene at 6 p.m. (MST) and adjourn at 9 p.m. (MST), Wednesday, April 5, 2006, at the Holiday Inn Parkside, 200 S. Pattee St., Missoula, Montana 59802. The purpose of the meeting is to conduct orientation for new advisory committee members; provide an overview of the USCCR including recent Commission activities and new policies affecting Advisory Committees; facilitate a briefing on regional project “Confronting Discrimination in Reservation Border Town Communities” in Montana; and planning through December 2006.

Persons desiring additional information, or planning a presentation to the Committee, should contact John F. Dulles, Director of the Rocky Mountain Regional Office, (303) 866-1040 (TDD 303-866-1049). Hearing-impaired persons who will attend the meeting and require the services of a sign language interpreter should contact the Regional Office at least ten (10) working days before the scheduled date of the meeting.

The meeting will be conducted pursuant to the provisions of the rules and regulations of the Commission. It was not possible to publish this notice 15 days in advance of the meeting date because of internal processing delays.

Dated at Washington, DC, March 23, 2006.
Ivy L. Davis,
Chief, Regional Programs Coordination Unit.

[FR Doc. E6-4687 Filed 3-30-06; 8:45 am]

BILLING CODE 6335-01-P